POSTAL SERVICE

United States Postal Service Board of Governors; Sunshine Act Meeting

TIMES AND DATES: 1 p.m., Tuesday, May 10, 2005; and 8:30 a.m., Wednesday, May 11, 2005.

PLACE: Atlanta, Georgia, at the Hyatt Regency Hotel, 265 Peachtree Street, NE., in the Hong Kong/Cairo Rooms.

STATUS: May 10—1 p.m. (Closed); May 11—8:30 a.m. (Open).

MATTERS TO BE CONSIDERED:

Tuesday, May 10—1 p.m. (Closed)

1. Postal Rate Commission Opinion and Recommended Decision in Experimental Premium Forwarding Service, Docket No. MC2005-1.

2. Strategic Planning.

3. Financial Update.

4. Personnel Matters and Compensation Issues.

Wednesday, May 11—8:30 a.m. (Open)

1. Minutes of the Previous Meeting, April 12, 2005.

2. Remarks of the Postmaster General/Chief Executive Officer.

3. Committee Reports and Audit and Finance Committee Charter.

4. Transformation.

5. Quarterly Report on Service Performance.

6. Quarterly Report on Financial Performance.

7. Atlanta District Report.

8. Tentative Agenda for the June 14, 2005, meeting in Washington, DC.

CONTACT FOR FURTHER INFORMATION: William T. Johnstone, Secretary of the Board, U.S. Postal Service, 475 L'Enfant Plaza, SW., Washington, DC 20260-1000. Telephone (202) 268-4800.

William T. Johnstone,
Secretary.

[FR Doc. 05-8820 Filed 4-28-05; 2:35 pm]

BILLING CODE 7710-12-M